NUCLEAR REGULATORY COMMISSION

Sunshine Act Meeting

AGENCY: Nuclear Regulatory Commission.

Dates: Weeks of December 29, 2003, January 5, 12, 19, 26, February 2, 2004.

Place: Commissioner's Conference Room, 11555 Rockville Pike, Rockville, Maryland.

Status: Public and Closed.

Matters to be Considered:

Week of December 29, 2003

There are no meetings scheduled for the Week of December 29, 2003.

Week of January 5, 2004—Tentative

There are no meetings scheduled for the Week of January 5, 2004.

Week of January 12, 2004—Tentative

Wednesday, January 14, 2004

9:30 a.m. Briefing on Status of Office of Chief Information Officer Programs, Performance, and Plans (Public Meeting) (Contact: Jacqueline Silber, 301-415-7330).

This meeting will be Webcast live at the Web address— http://www.nrc.gov.

Week of January 19, 2004—Tentative

Wednesday, January 21, 2004

1:30 p.m. Discussion of Security Issues (Closed—Ex. 1).

Week of January 26, 2004—Tentative

There are no meetings scheduled for the Week of January 26, 2004.

Week of February 2, 2004—Tentative

Tuesday, February 3, 2004

9:30 a.m. Discussion of Security Issues (Closed—Ex. 1)

* The schedule for Commission meetings is subject to change on short notice. To verify the status of meetings call (recording)—(301) 415-1292. Contact person for more information: Timothy J. Frye, (301) 415-1651

* * * * *

The NRC Commission Meeting Schedule can be found on the Internet at http://www.nrc.gov/what-we-do-/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 23, 2003.
Timothy J. Frye,
Technical Coordinator, Office of the Secretary.

[FR Doc. 03-32251 Filed 12-29-03; 10:06 am]

BILLING CODE 7590-01-M